DEPARTMENT OF COMMERCE

International Trade Administration

[A-549-807]

Notice of Final Rescission of Antidumping Duty Administrative Review: Certain Carbon Steel Butt-Weld Pipe Fittings From Thailand

AGENCY: Import Administration, International Trade Administration, Department of Commerce.

ACTION: Notice of Final Rescission of Antidumping Duty Administrative Review.

SUMMARY: We are rescinding the administrative review of the antidumping duty order on certain carbon steel butt-weld pipe fittings from Thailand with respect to Thai Benkan Corporation, Ltd., (TBC) for the period of July 1, 2001, through June 30, 2002.

EFFECTIVE DATE: May 20, 2003.

FOR FURTHER INFORMATION CONTACT: Zev Primor or Ronald Trentham, Antidumping/Countervailing Duty Enforcement, Office 4, Group II, Import Administration, International Trade Administration, U.S. Department of Commerce, 14th Street and Constitution Avenue, NW., Washington, DC 20230; telephone: (202) 482-4114 or 482-6320, respectively.

SUPPLEMENTARY INFORMATION:

Background

On July 6, 1992, the Department of Commerce (the Department) published in the Federal Register an antidumping duty order on certain carbon steel butt-weld pipe fittings (pipe fittings) from Thailand (57 FR 29702). On July 1, 2002, the Department published a “Notice of Opportunity to Request an Administrative Review” on pipe fittings from Thailand (67 FR 44172). On July 31, 2002, the petitioner in this proceeding, Trinity Fitting Group, requested, in accordance with section 351.213(b) (2002) of the Department's regulations, an administrative review of the antidumping duty order on pipe fittings from Thailand covering the period July 1, 2001, through June 30, 2002, with respect to TBC. On August 15, 2002, TBC submitted a letter certifying that neither it nor its U.S. affiliate, Benkan America, Inc., sold, exported or shipped for entry and/or consumption in the United States subject merchandise during the period of review (POR). We published a notice of initiation of the review with respect to TBC on August 27, 2002. See Initiation of Antidumping and Countervailing Duty Administrative Reviews and Requests for Revocation in Part, 67 FR 55000 (August 27, 2002). On March 24, 2003, the Department published the preliminary notice of intent to rescind this administrative review. See Certain Carbon Steel Butt-Weld Pipe Fittings From Thailand: Preliminary Notice of Intent to Rescind Administrative Review, 68 FR 14192 (March 24, 2003). As discussed in the notice of preliminary results, this review covers TBC's shipments of the subject merchandise during the POR; however, based upon our shipment data query, we determined that TBC was a non-shipper for the purpose of this review. We invited interested parties to comment on our preliminary results. Interested parties did not submit case briefs or request a hearing.

Scope of the Review

The product covered by this order is certain carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). Carbon steel pipe fittings are currently classified under subheading 7307.93.30 of the Harmonized Tariff Schedule of the United States (HTSUS). Although the HTSUS subheadings are provided for convenience and customs purposes, our written description of the scope of this proceeding is dispositive.

Rescission of Administrative Review

We provided interested parties with an opportunity to comment on the preliminary results. As noted above, however, we received no comments. As discussed in the preliminary results, because TBC made no entries, exports or sales of the subject merchandise to the United States during the POR, we determine that it was a non-shipper. In accordance with 19 CFR 351.213(d)(3) and consistent with Department practice, we are rescinding our review of TBC (see, e.g., Certain Non-Frozen Apple Juice Concentrate from the People's Republic of China: Final Results of 1999-2001 Administrative Review and Partial Rescission of Review, 67 FR 68987 (November 14, 2002); see also, Frozen Concentrated Orange Juice From Brazil: Final Results and Partial Rescission of Antidumping Duty Administrative Review, 67 FR 40913(June 14, 2002)).

This notice also serves as a reminder to parties subject to an administrative protective order (APO) of their responsibility concerning the disposition of proprietary information disclosed under APO in accordance with 19 CFR 351.305. Timely notification of return and/or destruction of APO materials or conversion to judicial protective order is hereby requested. Failure to comply with the regulations and the terms of an APO are sanctionable violations.

This determination is issued and published pursuant to sections 751(a) and 777(i) of the Tariff Act of 1930, as amended, and section 351.213(d) of the Department's regulations.

Dated: May 13, 2003.
Holly A. Kuga,
Acting Deputy Assistant Secretaryfor Import Administration.

[FR Doc. 03-12635 Filed 5-19-03; 8:45 am]

BILLING CODE 3510-DS-S